INTERNATIONAL TRADE COMMISSION

[Investigation Nos. 701-TA-415 and 731-TA-933 and 934 (Second Review)]

Polyethylene Terephthalate Film, Sheet, and Strip From India and Taiwan; Revised Schedule for the Subject Reviews

AGENCY: United States International Trade Commission.

ACTION: Notice.

DATES: Effective Date: May 14, 2014.

FOR FURTHER INFORMATION CONTACT: Cynthia Trainor (202-205-3354), Office of Investigations, U.S. International Trade Commission, 500 E Street SW., Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (http://www.usitc.gov). The public record for these reviews may be viewed on the Commission's electronic docket (EDIS) at http://edis.usitc.gov.

SUPPLEMENTARY INFORMATION:

Background.—On January 16, 2014, the Commission established a schedule for the conduct of these reviews (79 FR 2883). Subsequently, counsel for the domestic interested party filed a request to appear at the hearing or, in the alternative, for consideration of cancellation of the hearing. Counsel indicated a willingness to submit responses to any Commission questions in lieu of an actual hearing. No other party filed a timely request to appear at the hearing. Consequently, the public hearing in connection with these reviews, scheduled to begin at 9:30 a.m. on May 20, 2014, at the U.S. International Trade Commission Building, is cancelled. Parties to these reviews should respond to any written questions posed by the Commission in their posthearing briefs, which are due to be filed on May 29, 2014.

For further information concerning these reviews see the Commission's notice cited above and the Commission's Rules of Practice and Procedure, part 201, subparts A through E (19 CFR part 201), and part 207, subparts A and C (19 CFR part 207).

Authority: These reviews are being conducted under authority of title VII of the Tariff Act of 1930; this notice is published pursuant to section 207.62 of the Commission's rules.

By order of the Commission.
Issued: May 14, 2014.
Lisa R. Barton,
Secretary to the Commission.

[FR Doc. 2014-11580 Filed 5-19-14; 8:45 am]

BILLING CODE 7020-02-P